NATIONAL AERONAUTICS AND SPACE ADMINISTRATION

[Notice 03-109]

Government-Owned Inventions, Available for Licensing

ACTION: Notice of availability of inventions for licensing.

SUMMARY: The inventions listed below are assigned to the National Aeronautics and Space Administration, have been filed in the United States Patent and Trademark Office, and are available for licensing.

DATES: September 15, 2003.

FOR FURTHER INFORMATION CONTACT: Kent N. Stone, Patent Counsel, Glenn Research Center at Lewis Field, Code 500-118, Cleveland, OH 44135; telephone (216) 433-8855; fax (216) 433-6790.

NASA Case No. LEW-17238-1: Optimization Of Training Sets For Neural-Net Processing Of Characteristic Patterns From Vibrating Solids;

NASA Case No. LEW-17240-1: Improved Interphase For Ceramic Matrix Composites Reinforced By Non-Oxide Ceramic Fibers;

NASA Case No. LEW-17269-1: Reverse-Bias Protected Solar Array With Integrated Bypass Battery;

NASA Case No. LEW-17309-1: Carbon Materials-Metal/Metal Oxide Nanoparticle Composite And Battery Anode;

NASA Case No. LEW-17357-1: Blanch Resistant And Thermal Barrier NiAl Coating Systems For Advanced Copper Alloys;

NASA Case No. LEW-17383-1: Charging Of Devices By Microwave Beaming Power;

NASA Case No. LEW-17391-1: MEMS Closed Chamber Heat Engine And Electric Generator;

NASA Case No. LEW-17435-1: Light Power Beaming System For Charging Consumer Devices.

Dated: September 8, 2003.
Robert M. Stephens,
Deputy General Counsel.

[FR Doc. 03-23496 Filed 9-12-03; 8:45 am]

BILLING CODE 7510-01-P